DEPARTMENT OF TRANSPORTATION

Federal Aviation Administration

14 CFR Part 39

[Docket No. FAA-2021-0298; Project Identifier MCAI-2020-01549-T]

RIN 2120-AA64

Airworthiness Directives; Airbus Canada Limited Partnership (Type Certificate Previously Held by C Series Aircraft Limited Partnership (CSALP); Bombardier, Inc.) Airplanes

AGENCY: Federal Aviation Administration (FAA), DOT.

ACTION: Proposed rule; withdrawal.

SUMMARY: The FAA is withdrawing a notice of proposed rulemaking (NPRM) that proposed to adopt a new airworthiness directive (AD) that would have applied to certain Airbus Canada Limited Partnership Model BD-500-1A10 airplanes. The NPRM would have required an inspection of the low-pressure distribution supply duct to determine the part number, and replacement if necessary, as specified in a Transport Canada Civil Aviation (TCCA) AD. Since issuance of the NPRM, the FAA has determined that the affected operator has already addressed the unsafe condition by incorporating the proposed required actions on the affected airplanes. Accordingly, the NPRM is withdrawn.

DATES: As of August 25, 2021, the proposed rule, which was published in the Federal Register on April 16, 2021 (86 FR 20091), is withdrawn.

ADDRESSES:

Examining the AD Docket

You may examine the AD docket at https://www.regulations.gov by searching for and locating Docket No. FAA-2021-0298; or in person at Docket Operations between 9 a.m. and 5 p.m., Monday through Friday, except Federal holidays. The AD docket contains this AD action, any comments received, and other information. The street address for Docket Operations is U.S. Department of Transportation, Docket Operations, M-30, West Building Ground Floor, Room W12-140, 1200 New Jersey Avenue SE, Washington, DC 20590.

FOR FURTHER INFORMATION CONTACT: Siddeeq Bacchus, Aerospace Engineer, Mechanical Systems and Administrative Services Section, FAA, New York ACO Branch, 1600 Stewart Avenue, Suite 410, Westbury, NY 11590; telephone 516-228-7362; fax 516-794-5531; email 9-avs-nyaco-cos@faa.gov.

SUPPLEMENTARY INFORMATION:

Background

The FAA issued an NPRM that proposed to amend 14 CFR part 39 by adding an AD that would apply to certain Airbus Canada Limited Partnership Model BD-500-1A10 airplanes. The NPRM was published in the Federal Register on April 16, 2021 (86 FR 20091). The NPRM was prompted by a report that an incorrect low-pressure distribution supply duct may be installed in the forward cargo compartment. The NPRM proposed to require an inspection of the low-pressure distribution supply duct to determine the part number, and replacement if necessary, as specified in a Transport Canada Civil Aviation (TCCA) AD.

Actions Since the NPRM Was Issued

Since issuance of the NPRM, the FAA has verified that the proposed actions have been done on the affected airplanes. Therefore, the FAA has determined that AD action is not appropriate.

Withdrawal of the NPRM constitutes only such action and does not preclude the FAA from further rulemaking on this issue, nor does it commit the FAA to any course of action in the future.

Comments

Support for the NPRM

The Air Line Pilots Association, International (ALPA) expressed support for the NPRM.

Request To Not Issue the Proposed AD

Delta Air Lines (Delta) requested that the proposed AD not be issued. DAL stated that replacement of the affected part as required by the proposed AD had already been done on both of the affected airplanes. Alternatively, Delta requested that the FAA allow use of the high-pressure ground connection as an alternative to the auxiliary power units because Delta's affected airplanes had been preserved in storage and could not be started if necessary to perform a required leak check. The FAA agrees with the commenter's requests, but because the FAA is withdrawing the NPRM, Delta's alternative request is no longer necessary.

FAA's Conclusions

Upon further consideration, the FAA has determined that the NPRM is unnecessary. Accordingly, the NPRM is withdrawn.

Regulatory Findings

Since this action only withdraws an NPRM, it is neither a proposed nor a final rule. This action therefore is not covered under Executive Order 12866, the Regulatory Flexibility Act, or DOT Regulatory Policies and Procedures (44 FR 11034, February 26, 1979).

List of Subjects in 14 CFR Part 39

Air transportation, Aircraft, Aviation safety, Incorporation by reference, Safety.

The Withdrawal

Accordingly, the notice of proposed rulemaking (Docket No. FAA-2021-0298), which was published in the Federal Register on April 16, 2021 (86 FR 20091), is withdrawn.

Issued on August 19, 2021.
Gaetano A. Sciortino,
Deputy Director for Strategic Initiatives, Compliance & Airworthiness Division, Aircraft Certification Service.

[FR Doc. 2021-18228 Filed 8-24-21; 8:45 am]

BILLING CODE 4910-13-P